NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before November 28, 2003, to be assured of consideration.

ADDRESSES: Comments should be sent to: Office of Information and Regulatory Affairs, Office of Management and Budget, Attn: Mr. Jonathan Womer, Desk Officer for NARA, Washington, DC 20503. Comments may be faxed to 202-395-5167.

FOR FURTHER INFORMATION CONTACT: Requests for additional information or copies of the proposed information collection and supporting statement should be directed to Tamee Fechhelm at telephone number 301-837-1694 or fax number 301-837-3213.

SUPPLEMENTARY INFORMATION: Pursuant to the Paperwork Reduction Act of 1995 (Pub. L. 104-13), NARA invites the general public and other Federal agencies to comment on proposed information collections. NARA published a notice of proposed collection for this information collection on July 22, 2003 (68 FR 43380). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology. In this notice, NARA is soliciting comments concerning the following information collection:

Title: Records Storage Facility Survey.

OMB number: New.

Agency form number: None.

Type of review: Regular.

Affected public: Owners/operators of commercial records storage facilities that are small businesses.

Estimated number of respondents: 263.

Estimated time per response: 15 minutes.

Frequency of response: One-time.

Estimated total annual burden hours: 66 hours.

Abstract: The information collection is a survey of the characteristics of records storage facilities operated by small businesses. Respondents will be a random sample of owners/operators of such facilities. The survey information will be used by the NARA policy and technical staff to evaluate the construction materials, fire protection measures, and storage practices common in small business records centers against the existing standards in the NARA regulation on records center facility standards (36 CFR part 1228, subpart K). The information will be used in a regulatory flexibility analysis of possible alternatives to the existing standards and assessment of the ability of small business to comply with those alternatives.

Dated: October 20, 2003.
L. Reynolds Cahoon,
Assistant Archivist for Human Resources and Information Services.

[FR Doc. 03-27196 Filed 10-28-03; 8:45 am]

BILLING CODE 7515-01-P